DEPARTMENT OF HOMELAND SECURITY

Solicitation of Proposal Information for Award of Public Contracts

AGENCY: Office of the Chief Procurement Officer, Acquisition Policy and Legislation Office, DHS.

ACTION: 60-Day Notice and request for comments: Extension without change of a currently approved collection, 1600-0005.

SUMMARY: The Department of Homeland Security, Office of the Chief Procurement Officer, Acquisition Policy and Legislation Office, will submit the following information collection request (ICR) to the Office of Management and Budget (OMB) for review and clearance in accordance with the Paperwork Reduction Act of 1995 (Pub. L. 104-13 (as amended), 44 U.S.C. Chapter 35). The Office of the Chief Procurement Officer is soliciting comments related to its request for extension of an existing information collection authority for the solicitation of proposal information for award of public contracts under Homeland Security Acquisition Regulation (HSAR).

DATES: Comments are encouraged and will be accepted until August 5, 2008.

This process is conducted in accordance with 5 CFR 1320.1.

ADDRESSES: Comments and questions about this Information Collection Request should be forwarded to the Acquisition Policy and Legislation Office, Attn: Patricia Corrigan for the Department of Homeland Security, Office of the Chief Procurement Officer, Room 3114, Washington, DC 20528.

FOR FURTHER INFORMATION CONTACT: Patricia Corrigan, 202-447-5430 (this is not a toll free number).

SUPPLEMENTARY INFORMATION: The Department of Homeland Security (DHS), Office of the Chief Procurement Officer request renewal of an existing OMB Control Number for information requested from prospective contractors in response to agency-issued solicitations. The information requested is specific to each solicitation, and is required in order for DHS to properly evaluate offeror/bidder qualifications and capabilities in order to make informed decisions in awarding contracts. Information requested typically includes that related to offerors' or bidders' management approach, technical and pricing information, delivery and other pertinent information. This notice provides a request for renewal of OMB Control Number 1600-0005 previously granted in August 2005.

The Office of Management and Budget is particularly interested in comments regarding:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis:

Agency: Department of Homeland Security, Office of the Chief Procurement Officer, Acquisition Policy and Legislation Office.

Title: Solicitation of Proposal Information for Award of Public Contracts.

OMB Number: 1600-0005.

Frequency: Once.

Affected Public: Businesses and individuals.

Estimated Number of Respondents: 10,850.

Estimated Time per Respondent: 14 hours.

Total Burden Hours: 151,900 annual burden hours.

Total Burden Cost (capital/startup): $0.00.

Total Burden Cost (operating/maintaining): $0.00.

Richard Mangogna,
Chief Information Officer.

[FR Doc. E8-12693 Filed 6-5-08; 8:45 am]

BILLING CODE 4410-10-P